ENVIRONMENTAL PROTECTION AGENCY

[CERCLA-04-2024-7010; FRL-12255-01-R4]

Horton Iron and Metal Superfund Site, Wilmington, North Carolina; Proposed Settlement

AGENCY: Environmental Protection Agency (EPA).

ACTION: Notice of proposed settlement.

SUMMARY: Under the Comprehensive Environmental Response, Compensation and Liability Act (CERCLA), the United States Environmental Protection Agency is proposing to enter into a settlement with Phillips 66 Company concerning the Horton Iron and Metal Superfund Site located in Wilmington, North Carolina. The proposed settlement addresses recovery of CERCLA costs for a cleanup that will be performed at the Site and costs incurred by EPA.

DATES: The Agency will consider public comments on the proposed settlement until April 2, 2025. The Agency will consider all comments received and may modify or withdraw its consent to the proposed settlement if comments received disclose facts or considerations which indicate that the proposed settlement is inappropriate, improper, or inadequate.

ADDRESSES: Copies of the proposed settlement are available from the Agency by contacting Mrs. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Maurice Horsey,
Branch Manager, Enforcement Branch, Superfund & Emergency Management Division.

[FR Doc. 2025-03198 Filed 2-28-25; 8:45 am]

BILLING CODE 6560-50-P